ENVIRONMENTAL PROTECTION AGENCY

[AD-FRL-7009-9]

New Source Review—90-Day Review and Report to the President

AGENCY: Environmental Protection Agency (EPA).

ACTION: Notice; correction.

SUMMARY: On Wednesday, June 27, 2001, EPA published two notices in the Federal Register addressing the Report to the President on the impacts of the New Source Review (NSR) permitting program on utility and refinery capacity, energy efficiency, and environmental protection. The first notice, at 66 FR 34183, was a notice of public meetings. The second notice, at 66 FR 34191, was a notice of availability and opportunity to comment on a background paper. The EPA is issuing this notice to make several corrections to those two notices. The corrections address: (1) Times for additional evening sessions at each of four public meetings, (2) an incorrect fax number for the public docket, and (3) a clarification that the NEPD group recommended, but did not direct, the 90-day review of NSR.

FOR FURTHER INFORMATION CONTACT: Mr. Michael Ling, Office of the Director, Information Transfer and Program Integration Division (MD-12), U.S. Environmental Protection Agency, Research Triangle Park, NC 27711; telephone number 919-542-4729.

Corrections

1. In the Federal Register of June 27, 2001, in the Notice of Public Meeting, FR Doc. No. 01-16268, the language in the sentence that begins on page 34183 col. 3 and continues on page 34184 col. 1, “The National Energy Policy Development Group, under the direction of Vice President Richard Cheney, has directed EPA in consultation with the Secretary of Energy and other relevant agencies, to review * * *.” is corrected to:

At the direction of the EPA Administrator, EPA, in consultation with the Secretary of Energy and other relevant agencies, is reviewing * * *

2. In the Federal Register of June 27, 2001, in the Notice of Public Meeting, FR Doc. No. 01-16268, on page 34184, in the first column, correct the DATES caption to read:

DATES: The public meeting dates are:

1. July 10, 2001, 9:30 a.m. to 4 p.m., and 6:30 p.m. to 7:30 p.m., Cincinnati, OH

2. July 12, 2001, 9:30 a.m. to 4 p.m. and 6:30 p.m. to 7:30 p.m., Sacramento, CA

3. July 17, 2001, 9:30 a.m. to 4 p.m. and 6:30 p.m. to 7:30 p.m., Boston, MA

4. July 20, 2001, 9:30 a.m. to 4 p.m. and 6:30 p.m. to 7:30 p.m., Baton Rouge, LA and correct the ADDRESSES caption immediately following to read:

ADDRESSES: The public meeting locations are:

1. Cincinnati-Day Session: Hyatt Regency (Regency Ballroom, Sections E and F), 151 West Fifth Street, Cincinnati, OH 45202; Evening Session: Omni Netherland Plaza, 35 West Fifth Street, Cincinnati, OH 45202.

2. Sacramento-Day Session: Red Lion Hotel, Sacramento (Martinique Ballroom), 1401 Arden Way Sacramento, CA 95815; Evening Session: Same as Day Session.

3. Boston-Day Session: DoubleTree Guest Suites Boston (Charles River Ballroom), 400 Soldiers Field Road, Boston, MA 02134; Evening Session: Same as Day Session.

4. Baton Rouge-Day Session: Holiday Inn South (The Grand Ballroom), 9940 Airline Highway, Baton Rouge, LA 70816; Evening Session: Same as Day Session.

3. In the Federal Register of June 27, 2001, in the Notice of Availability and Opportunity to Comment, FR Doc. No. 01-16267, the language in the sentence on page 34192 col. 1, “The National Energy Policy Development Group, under the direction of Vice President Richard Cheney, has directed EPA, in consultation with the Secretary of Energy and other relevant agencies, to review * * *.” is corrected to:

At the direction of the EPA Administrator, EPA, in consultation with the Secretary of Energy and other relevant agencies, is reviewing * * *.”

4. In the Federal Register of June 27, 2001, in the Notice of Availability and Opportunity to Comment, FR Doc. No. 01-16267, on page 34192, in the first column, under the ADDRESSES caption, correct the fax number for the Air and Radiation Docket and Information Center to: fax: (202) 260-4400.

SUPPLEMENTARY INFORMATION: On June 27, 2001, the Environmental Protection Agency published two notices in the Federal Register that deal with the Agency's review of the New Source Review permitting program to assess its impact on new utility and refinery generation capacity, energy efficiency, and environmental protection. The “Summary” sections of each of the notices incorrectly state that “The National Energy Policy Development Group, under the direction of Vice President Richard Cheney, has directed EPA, in consultation with the Secretary of Energy and other relevant agencies, to review the Agency's New Source Review (NSR) program, including administrative interpretation and implementation, and report to the President within 90 days on the impact of the regulations on investment in new utility and refinery generation capacity, energy efficiency, and environmental protection.” Because the National Energy Policy Development Group does not have authority to issue direction to EPA, this document corrects the notices to indicate that this review is being done under the direction of the EPA Administration. The first and third corrections in this notice address this issue.

The second correction in this notice identifies additional hours for the public meetings on the EPA's review of NSR. In addition to the day sessions identified in the June 27 notice, there will also be evening sessions from 6:30 to 7:30 each evening in each of the four cities for which public meetings are scheduled. Locations are also provided for the evening sessions. The most current information about the public meetings is available on the Internet at the following address: http://www.epa.gov/air/nsr-review.

Finally, the fourth correction in this notice corrects an improperly reported fax number for use submitting comments to the Air and Radiation Docket and Information Center. When submitting comments in any form, please specific docket number A-2001-19.

Dated: July 6, 2001.
Linda J. Fisher,
Deputy Administrator.

[FR Doc. 01-17334 Filed 7-10-01; 8:45 am]

BILLING CODE 6560-50-P